FEDERAL COMMUNICATIONS COMMISSION

Notice of Public Information Collection(s) Being Reviewed by the Federal Communications Commission, Comments Requested

December 23, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 7, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0298.

Title: Tariff (Other than the Tariff Review Plan)—Part 61.

Form No.: Not Applicable.

Type of Review: Extension of a currently approved collection.

Respondents: Business or other for-profit.

Number of Respondents: 580.

Estimated Time Per Response: 114 hours.

Frequency of Response: On occasion, annual and biennial reporting requirements and third party disclosure requirement.

Total Annual Burden: 66,120 hours.

Total Annual Cost: $835,000.

Privacy Act Impact Assessment: Not Applicable.

Needs and Uses: Part 61 is designed to ensure that all tariffs filed by common carriers are formally sound, well organized, and provide the Commission and the public with sufficient information to determine the justness and reasonableness as required by the Act, of the rates, terms and conditions in those tariffs. In the Seventh Report and Order in CC Docket No. 96-262 released on April 27, 2001, the Commission had limited the application of its' tariff rules to interstate access services provided by nondominant local exchange carriers. The Commission is requesting an extension (no change) to this information collection in order to obtain the full three year clearance from the OMB. The Commission is reducing the number of burden hours and costs to the respondents for this information collection due to less carriers filing this information with the Commission.

OMB Control No.: 3060-0391.

Title: Program to Monitor the Impacts of the Universal Service Support Mechanism, CC Docket Nos. 98-202 and 96-45.

Form No.: Not Applicable.

Type of Review: Revision of a currently approved collection.

Respondents: Business or other for-profit.

Number of Respondents: 210 respondents; 1,456 responses.

Estimated Time Per Response: .666 hours (40 minutes).

Frequency of Response: Annual reporting requirement and third party disclosure requirement.

Total Annual Burden: 971 hours.

Total Annual Cost: Not Applicable.

Privacy Act Impact Assessment: Not Applicable.

Needs and Uses: The Commission has a program to monitor the impacts of the universal service support mechanisms. The program requires periodic reporting by telephone companies and the universal service administrator. The information is used by the Commission, Federal-State Joint Boards, Congress and the general public to assess the impacts of the decisions of the Commission and the Joint Boards. Prior to 2002, the Commission required the following data to be collected: local, intrastate toll, and interstate dial equipment minutes, interstate dial equipment minute factors, and interstate access minutes. After the necessary 60 day public comment period, the Commission plans to submit this revised collection to OMB, because the dial equipment minutes reporting categories were eliminated due to separations reforms (see FCC 01-162). Thus, only the interstate access minutes remain to be reported.

OMB Control No.: 3060-0823.

Title: Pay Telephone Reclassification Memorandum Opinion and Order, CC Docket No. 96-128.

Form No.: Not Applicable.

Type of Review: Extension of a currently approved collection.

Respondents: Business or other for-profit.

Number of Respondents: 400.

Estimated Time Per Response: 112 hours.

Frequency of Response: On occasion reporting requirement, recordkeeping requirement and third party disclosure requirement.

Total Annual Burden: 44,700 hours.

Total Annual Cost: $480,000.

Privacy Act Impact Assessment: Not Applicable.

Needs and Uses: In the Memorandum Opinion and Order issued in CC Docket No. 96-128, the Wireline Competition Bureau of the Federal Communications Commission clarified requirements established in the Payphone Orders for the provision of payphone-specific coding digits by Local Exchange Carriers and Payphone Service Providers (PSPs), to Interexchange Carriers (IXCs), beginning on October 7, 1977. Specifically, the Order clarified that only Flexible Automatic Numbering Identification (FLEX ANI) complies with the requirements; requires that LECs file tariffs to reflect FLEX ANI as a non-chargeable option to IXCs; requires that LECs file tariffs to recover costs associated with implementing FLEX ANI; and grants permission and certain waivers. The Commission is seeking extension (no change) to this information collection and the respondents, burden hours and burden costs remain unchanged.

Federal Communications Commission.
William F. Caton,
Deputy Secretary.

[FR Doc. 05-119 Filed 1-4-05; 8:45 am]

BILLING CODE 6712-01-P